DEPARTMENT OF HEALTH AND HUMAN SERVICES

National Institutes of Health

National Institute of Dental and Craniofacial Research; Amended Notice of Meeting

Notice is hereby given of a change in the meeting of the National Institute of Dental and Craniofacial Research Special Emphasis Panel Developing Salivary Components as Therapeutics for Oral Health, March 7, 2024, 12:30 p.m. to March 7, 2024, 5 p.m., National Institute of Dental and Craniofacial Research, 6701 Democracy Blvd., Bethesda, MD 20817 which was published in the Federal Register on December 18, 2023, FR Doc. 2023-27744, 88 FR 87444.

The meeting time has changed from 12:30 p.m. to 5 p.m. to 10:30 a.m. to 5 p.m. The date of the meeting and the location remain the same. The meeting is closed to the public.

Dated: January 17, 2024.
Melanie J. Pantoja,
Program Analyst, Office of Federal Advisory Committee Policy.

[FR Doc. 2024-01129 Filed 1-19-24; 8:45 am]

BILLING CODE 4140-01-P